DEPARTMENT OF ENERGY

10 CFR Part 431

[Docket Number EERE-2014-BT-STD-0027]

RIN 1904-AD31

Energy Conservation Program for Consumer Products: Energy Conservation Standards for Commercial Prerinse Spray Valves

AGENCY: Office of Energy Efficiency and Renewable Energy, Department of Energy.

ACTION: Extension of public comment period.

SUMMARY: This document announces an extension of the time period for submitting comments, data, and information concerning the notice of proposed rulemaking for commercial prerinse spray valves, published on July 9, 2015. The comment period is extended to September 22, 2015.

DATES: The comment period for the notice of proposed rulemaking for commercial prerinse spray valves, published on July 9, 2015 (80 FR 39486) is extended to September 22, 2015.

ADDRESSES: Interested persons may submit comments by any of the following methods:

• Federal eRulemaking Portal: http://www.regulations.gov. Follow the instructions for submitting comments.

• Email: SprayValves20104STD0027@ee.doe.gov. Include EERE-2014-BT-STD-0027 and/or regulation identifier number (RIN) 1904-AD31 in the subject line of the message. All comments should clearly identify the name, address, and, if appropriate, organization of the commenter. Submit electronic comments in WordPerfect, Microsoft Word, portable data format (PDF), or American Standard Code for Information Interchange (ASCII) file format, and avoid the use of special characters or any form of encryption.

• Mail: Ms. Brenda Edwards, U.S. Department of Energy, Building Technologies Office, Mailstop EE-5B, Notice of Proposed Rulemaking for Commercial Prerinse Spray Valves, EERE-2014-BT-STD-0027 and/or RIN 1904-AD31, 1000 Independence Avenue SW., Washington, DC 20585-0121. Phone: (202) 586-2945. If possible, please submit all items on a compact disc (CD), in which case it is not necessary to include printed copies. (Please note that comments sent by mail are often delayed and may be damaged by mail screening processes.)

• Hand Delivery/Courier: Ms. Brenda Edwards, U.S. Department of Energy, Building Technologies Office, 6th Floor, 950 L'Enfant Plaza SW., Washington, DC 20024. Phone: (202) 586-2945. If possible, please submit all items on a CD, in which case it is not necessary to include printed copies.

All submissions received must include docket number EERE-2014-BT- STD-0027 and/or regulatory identification number (RIN) 1904- AD31.

Docket: The docket is available for review at http://www.regulations.gov, and will include Federal Register notices, framework document, notice of proposed rulemaking, public meeting attendee lists and transcripts, comments, and other supporting documents/materials throughout the rulemaking process. The regulations.gov Web page contains simple instructions about how to access all documents, including public comments, in the docket. The docket can be accessed by searching for docket number EERE- 2014-BT-STD-0027 on the regulations.gov Web site. All documents in the docket are listed in the http://www.regulations.gov index. However, not all documents listed in the index may be publicly available, such as information that is exempt from public disclosure.

FOR FURTHER INFORMATION CONTACT: Mr. James Raba, U.S. Department of Energy, Office of Energy Efficiency and Renewable Energy, Building Technologies Office, EE-5B, 1000 Independence Avenue SW., Washington, DC 20585-0121. Telephone: (202) 586-8654. Email: commercial_pre-rinse-spray_valves@ee.doe.gov.

In the Office of General Counsel, contact Mr. Peter Cochran, U.S. Department of Energy, Office of the General Counsel, GC-33, 1000 Independence Avenue SW., Washington, DC 20585-0121. Telephone: (202) 586-9496. Email: Peter.Cochran@hq.doe.gov.

SUPPLEMENTARY INFORMATION: On July 9, 2015, the U.S. Department of Energy (DOE) published a document in the Federal Register proposing amended energy conservation standards for commercial prerinse spray valves. The document also announced a public meeting to receive comment about the proposed standards and associated analyses and results. 80 FR 39486. The document provided for the submission of written comments by September 8, 2015, and oral comments were also accepted at a public meeting held on July 28, 2015.

The Plumbing Manufacturers International requested, by letter dated August 13, 2015, an extension of the public comment period for the proposed rulemaking, in view of the scope of the proposed rulemaking, technical nature, and amount of data requested.

DOE has determined that an extension of the public comment period for the notice of proposed rulemaking is appropriate to allow interested parties additional time to submit comments for DOE's consideration. Thus, DOE is extending the comment period by 15 days. DOE will consider any comments received prior to September 23, 2015, to be timely submitted.

Issued in Washington, DC, on August 21, 2015.
Kathleen B. Hogan,
Deputy Assistant Secretary for Energy Efficiency and Renewable Energy.

[FR Doc. 2015-21319 Filed 8-27-15; 8:45 am]

BILLING CODE 6450-01-P